DEPARTMENT OF THE INTERIOR

Bureau of Ocean Energy Management, Regulation and Enforcement

Commercial Lease for the Cape Wind Energy Project

AGENCY: Bureau of Ocean Energy Management, Regulation and Enforcement, Interior.

ACTION: Notice of Availability (“NOA”) of a Commercial Lease of Submerged Lands for Renewable Energy Development on the Outer Continental Shelf (“OCS”) for the Cape Wind Energy Project.

SUMMARY: Pursuant to its authority under the Outer Continental Shelf Lands Act (“OCSLA”), 43 U.S.C. 1331 et seq., as amended; and the Renewable Energy and Alternate Uses of Existing Facilities on the Outer Continental Shelf Rules, 30 CFR part 285 (“Rule”), BOEMRE has issued a Commercial Lease (“Lease”) for an area of approximately 46 square miles on the OCS in Nantucket Sound off the coast of Cape Cod, Massachusetts. This NOA is being published to announce the availability of the Lease in accordance with the requirements of 30 CFR 285.231. The Lease is for the Cape Wind Energy Project (“Project”) which grants Cape Wind Associates, LLC, (“CWA”) the exclusive right to conduct certain activities within the leased area, subject to the terms and conditions of the Lease, and applicable laws and regulations. The Lease requires CWA to pay $88,278 in annual rent prior to production, and a two to seven percent operating fee rate following the start of production during the 33-year lease (a 5-year site assessment term and a 28-year commercial operations term). The rent and operating fee are based on the requirements set forth in 30 CFR part 285, subpart E. The Project plan calls for 130 wind turbines capable of generating a maximum electric output of 468 megawatts with an anticipated average output of 183 megawatts. Construction and operation of the Project cannot begin until BOEMRE reviews and approves plans submitted by CWA that detail construction and operation of the Project in accordance with the Rule.

Authority: The NOA of the Lease issuance is published pursuant to 30 CFR 285.231.

SUPPLEMENTARY INFORMATION:

Cape Wind Energy Project Description

The Energy Policy Act of 2005 (“EPAct”) and amendments to the OCSLA gave the Secretary of the Department of the Interior the authority to issue leases, easements, and rights-of-way for renewable energy activities on the OCS. The Secretary delegated this authority to BOEMRE, formerly the Minerals Management Service. Following passage of EPAct in 2005, CWA submitted an application for Project to BOEMRE. In 2009, BOEMRE finalized the Rule that governed the issuance of leases, easements, and rights-of-way and the regulation of offshore renewable energy activities.

The Project plan calls for 130 3.6 megawatt wind turbine generators, each with a maximum blade height of 440 feet, to be arranged in a grid pattern on the OCS in Nantucket Sound. The transmission cables for the Project, if approved, would pass through Massachusetts' submerged lands. With a maximum electric output of 468 megawatts and an average anticipated output of 183 megawatts, the Project is expected to generate electricity equivalent to three-quarters of the Cape and nearby islands' electricity needs. Each of the 130 wind turbine generators would generate electricity independently. Solid dielectric submarine inner-array cables from each wind turbine generator would interconnect within the array and terminate on an electrical service platform (“ESP”), which would serve as the common interconnection point for all of the wind turbines. The Project plan calls for a submarine transmission cable system approximately 12.5 miles in length from the ESP to a landfall location in Yarmouth, Massachusetts (7.6 miles of which would fall within the state of Massachusetts' jurisdiction).

Availability of the Lease:

To obtain a single printed copy of the Lease, you may contact BOEMRE, Office of Offshore Alternative Energy Programs (Mail Stop 4090), 381 Elden Street, Herndon, Virginia 20170-4817. An electronic copy of the Lease is available at BOEMRE's Web site at: http://www.boemre.gov/offshore/RenewableEnergy/CapeWind.htm.

FOR FURTHER INFORMATION CONTACT: Bureau of Ocean Energy Management, Regulation and Enforcement, Ms. Maureen A. Bornholdt, Program Manager, Office of Offshore Alternative Energy Programs, MS 4090, 381 Elden Street, Herndon, Virginia 20170-4817, (703) 787-1300.

Dated: December 20, 2010.
L. Renee Orr,
Acting Associate Director for Offshore Energy and Minerals Management.

[FR Doc. 2010-32672 Filed 12-27-10; 8:45 am]

BILLING CODE 4310-MR-P